DEPARTMENT OF HOMELAND SECURITY

Coast Guard

33 CFR Part 160

[USCG-2006-26016]

Notice of Arrival; Port or Place of Destination

AGENCY: Coast Guard, DHS.

ACTION: Notice of policy.

SUMMARY: The Coast Guard is announcing its policy regarding the term “port or place of destination” used in our notice of arrival regulations in 33 CFR Part 160, Subpart C. We are issuing this notice to provide clarification as to how that term will be used by Coast Guard personnel enforcing our notice of arrival regulations.

DATES: This notice is effective October 24, 2006.

FOR FURTHER INFORMATION CONTACT: If you have any questions regarding this document, contact Lieutenant Junior Grade Julie Miller, Office of Vessel Activities (G-PCV), Coast Guard, by e-mail, Julie.E.Miller@uscg.mil, or telephone 202-372-1244.

SUPPLEMENTARY INFORMATION:

Background and Purpose

Representatives from the maritime industry have requested clarification of the definition of “port or place of destination” found in 33 CFR 160.204. This term is defined as “any port or place in which a vessel is bound to anchor or moor.” These requests for clarification arise from two situations.

First, while many vessels arriving at a port or place of destination when operating solely between ports or places within a single Captain of the Port (COTP) zone are exempt from submitting a notice of arrival (NOA), 33 CFR 160.203(b)(2), vessels carrying certain dangerous cargo (CDC) are not. A vessel carrying CDC must submit a NOA for any port or place of destination, including movements within a COTP zone. Because of confusion about the term “port or place of destination,” some vessels carrying CDC submit NOAs every time the vessel changes berths or piers in the same port in certain COTP zones, while others only submit NOAs when they depart the current port and enter another port within the same COTP zone.

Second, in some U.S. ports, after entering the port, transit time or distance to the berth is lengthy. Ports in Portland, OR, and New Orleans, LA, are two examples. In such situations the cognizant COTP may have an interest in when certain vessels arrive at the sea buoy or pilot station. In other U.S. ports, where transits are short or where the vessel must transit through another COTP zone to arrive at its intended berth (for example, transiting Hampton Roads, VA to get to Baltimore, MD) the COTP uses the vessel's arrival time at the berth or dock as the basis for enforcing compliance with the NOA regulation submission requirements.

Policy

In the two situations described above, the Coast Guard will exercise its discretion in enforcing NOA regulations as follows.

A vessel required to submit a NOA for ports or places of destination within a single COTP zone (for example, a vessel carrying CDCs) need only do so if the vessel is actually moving from one port to another port within that COTP zone. The Coast Guard will not view the movement from one dock to another dock, one berth to another berth, or one anchorage to another anchorage within one port as being a transit from one “port or place of destination” to a different “port or place of destination.”

A sea buoy or pilot station for a port will not be considered the arrival point for a vessel bound to anchor or moor in that port unless either the sea buoy or pilot station is the actual location where the vessel is bound to anchor or moor. If, based on information about a particular vessel, a COTP finds it necessary to know when that vessel reaches a sea buoy or pilot station, under separate authority he or she may issue an appropriate order specific to that vessel. The order may direct the vessel operator to advise the COTP when the vessel arrives, or is estimated to arrive, at the sea buoy or pilot station. It is anticipated this authority will be exercised only when necessary and will be specific to a particular vessel.

Dated: October 13, 2006.
F.J. Sturm,
Captain, U.S. Coast Guard, Acting Director of Inspections and Compliance.

[FR Doc. E6-17822 Filed 10-23-06; 8:45 am]

BILLING CODE 4910-15-P